SECURITIES AND EXCHANGE COMMISSION

Submission for OMB Review; Comment Request

Upon Written Request, Copies Available From: Securities and Exchange Commission, Office of Filings and Information Services, Washington, DC 20549.

Extension: Form 1,

Rules 6a-1 and 6a-2; SEC File No. 270-18; OMB Control No. 3235-0017.

Rules 6a-3; SEC File No. 270-15; OMB Control No. 3235-0021.

Notice is hereby given that pursuant to the Paperwork Reduction Act of 1995 (44 U.S.C. 3501 et seq.) the Securities and Exchange Commission (“Commission”) has submitted to the Office of Management and Budget requests for extension of the previously approved collections of information discussed below.

The Securities Exchange Act of 1934 (“Act”) sets forth a regulatory scheme for national securities exchanges. Rule 6a-1 under the Act ¹ generally requires an applicant for initial registration as a national securities exchange to file an application with the Commission on Form 1. An exchange that seeks an exemption from registration based on limited trading volume also must apply for such exemption on Form 1. Rule 6a-2 under the Act ² requires registered and exempt exchanges: (1) To amend the Form 1 if there are any material changes to the information provided in the initial Form 1; and (2) to submit periodic updates of certain information provided in the initial Form 1, whether such information has changed or not. The information required pursuant to Rules 6a-1 and 6a-2 is necessary to enable the Commission to maintain accurate files regarding the exchange and to exercise its statutory oversight functions. Without the information submitted pursuant to Rule 6a-1 on Form 1, the Commission would not be able to determine whether the respondent met the criteria for registration or exemption set forth in Sections 6 and 19 of the Act. Without the amendments and periodic updates of information submitted pursuant to Rule 6a-2, the Commission would have substantial difficulty determining whether a national securities exchange or exempt exchange was continuing to operate in compliance with the Act.

¹ 17 CFR 240.6a-1.

² 17 CFR 240.6a-2.

The respondents to the collection of information are entities that seek registration as a national securities exchange or that seek exemption from registration based on limited trading volume. After the initial filing of Form 1, both registered and exempt exchanges are subject to ongoing informational requirements.

Initial filings on Form 1 by new exchanges are made on a one-time basis. The Commission estimates that it will receive approximately three initial Form 1 filings per year and that each respondent would incur an average burden of 47 hours to file an initial Form 1 at an average cost per response of approximately $4,517. Therefore, the Commission estimates that the annual burden for all respondents to file the initial Form 1 would be 141 hours (one response/respondent × three respondents × 47 hours/response) and $13,551 (one response/respondent × three respondents × $4,517/response).

There currently are nine entities registered as nationals securities exchanges and two exempt exchanges. The Commission estimates that each registered or exempt exchange file one amendment or periodic update to Form 1 per year, incurring an average burden of 25 hours to comply with Rule 6a-2. The Commission estimates that the annual burden for all respondents to file amendments and periodic updates to the Form 1 pursuant to Rule 6a-2 is 275 hours (11 respondents × 25 hours/response × one response/respondent per year) and $25,630 (11 respondents × $2,330/response × one response/respondent per year).

Compliance with Rules 6a-1 and 6a-2 and Form 1 is mandatory for entities seeking to register as a national securities exchange or seeking an exemption from registration based on limited trading volume. Information received in response to Rules 6a-1 and 6a-2 and Form 1 shall not be kept confidential; the information collected is public information. As set forth in Rule 17a-1 under the Act,³ a national securities exchange generally is required to retain records of the collection of information for at least five years.

³ 17 CFR 240.17a-1.

Section 6 of the Act ⁴ sets out a framework for the registration and regulation of national securities exchanges. Under Commission Rule 6a-3,⁵ one of the rules that implements section 6, a national securities exchange (or an exchange exempted from registration based on limited trading volume) must provide certain supplemental information to the Commission, including any material (including notices, circulars, bulletins, lists, and periodicals) issued or made generally available to members of, or participants or subscribers to, the exchange. Rule 6a-3 also requires the exchanges to file monthly reports that set forth the volume and aggregate dollar amount of securities sold on the exchange each month. The information required to be filed with the Commission pursuant to Rule 6a-3 is designed to enable the Commission to carry out its statutorily mandated oversight functions and to ensure that registered and exempt exchanges continue to be in compliance with the Act.

⁴ 15 U.S.C. 78f.

⁵ 17 CFR 240.6a-3.

The respondents to the collection of information are national securities exchanges and exchanges that are exempt from registration based on limited trading volume.

The Commission estimates that each respondent make approximately 25 such filings on an annual basis at an average cost of approximately $21 per response. Currently, 11 respondents (nine national securities exchanges and two exempt exchanges) are subject to the collection of information requirements of Rule 6a-3. The Commission estimates that the total burden for all respondents is 137.5 hours (25 filings/respondent per year × 0.5 hours/filing × 11 respondents) and $5,775 ($21/response × 25 responses/respondent per year × 11 respondents) per year.

Compliance with Rule 6a-3 is mandatory for registered and exempt exchanges. Information received in response to Rule 6a-3 shall not be kept confidential; the information collected is public information. As set forth in Rule 17a-1 under the Act,⁶ a national securities exchange is required to retain records of the collection of information for at least five years.

⁶ 17 CFR 240.17a-1.

An agency may not conduct or sponsor, and a person is not required to respond to, a collection of information unless it displays a currently valid control number.

Written comments regarding the above information should be directed to the following persons: (a) Dest Officer for the Securities and Exchange Commission, Office of Information and Regulatory Affairs, Office of Management and Budget, Room 10102, New Executive Office Building, Washington DC 20503; and (b) Michael E. Bartell, Associate Executive Director, Office of Information Technology, Securities and Exchange Commission, 450 Fifth Street, NW, Washington, DC 20549. Comments must be submitted to the Office of Management and budget within 30 days of this notice.

Dated: June 12, 2001.
Margaret H. McFarland,
Deputy Secretary.

[FR Doc. 01-15528 Filed 6-19-01; 8:45 am]

BILLING CODE 8010-01-M